DEPARTMENT OF HOMELAND SECURITY

Coast Guard

33 CFR Part 117

[Docket No. USCG-2016-0183]

Drawbridge Operation Regulation; Trent River, New Bern, NC

AGENCY: Coast Guard, DHS.

ACTION: Notice of deviation from drawbridge regulation.

SUMMARY: The Coast Guard has issued a temporary deviation from the operating schedule that governs the US 70 (Alfred C. Cunningham) Bridge across the Trent River, mile 0.0, at New Bern, NC. The deviation is necessary to ensure the safety of attendees to the annual Mumfest celebration. This deviation allows the bridge draw span to remain in the closed to navigation position at two hour increments to accommodate the free movement of pedestrians and vehicles during the annual Mumfest celebration.

DATES: This deviation is effective from 9 a.m. on October 8, 2016 to 7 p.m. on October 9, 2016.

ADDRESSES: The docket for this deviation, [USCG-2016-0183] is available at http://www.regulations.gov. Type the docket number in the “SEARCH” box and click “SEARCH”. Click on Open Docket Folder on the line associated with this deviation.

FOR FURTHER INFORMATION CONTACT: If you have questions on this temporary deviation, call or email Mrs. Traci Whitfield, Bridge Administration Branch Fifth District, Coast Guard, telephone (757) 398-6629, email Traci.G.Whitfield@uscg.mil.

SUPPLEMENTARY INFORMATION: The Event Director for the New Bern Mumfest, with approval from the North Carolina Department of Transportation, owner of the drawbridge, has requested a temporary deviation from the current operating regulations set out in 33 CFR 117.843(a) to accommodate safe passage for pedestrians and vehicles during Mumfest.

The US 70 (Alfred C. Cunningham) Bridge is a double bascule lift bridge and has a vertical clearance in the closed position of 14 feet above mean high water. Under this temporary deviation, the drawbridge will open every two hours, on the hour, from 9 a.m. through 8 p.m. on Saturday, October 8, 2016 and from 9 a.m. through 7 p.m. on Sunday, October 9, 2016. From 8 p.m. on Saturday, October 8, 2016 through 9 a.m. on Sunday, October 9, 2016, the drawbridge will open on signal.

Vessels able to pass under the bridge in the closed position may do so at anytime. Mariners are advised to proceed with caution. The bridge will be able to open for emergencies and there is no alternate route for vessels unable to pass through the bridge in the closed position. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: March 16, 2016.
Hal R. Pitts,
Bridge Program Manager, Fifth Coast Guard District.

[FR Doc. 2016-06266 Filed 3-18-16; 8:45 am]

BILLING CODE 9110-04-P